DEPARTMENT OF THE INTERIOR

Bureau of Land Management

[NMNM 94897]

Public Land Order No. 7457; Partial Modification of Two Executive Orders and Transfer of Jurisdiction; New Mexico

AGENCY: Bureau of Land Management, Interior.

ACTION: Public Land Order.

SUMMARY: This order modifies two Executive orders insofar as they affect approximately 4,526 acres of land by changing the reservation of the land for military purposes to a reservation of the land for Bureau of Indian Affairs programs and establishing a 20-year term. The Army Corps of Engineers has filed a partial relinquishment of their reservation under these executive orders. Jurisdiction of the land is transferred from the Secretary of the Army to the Secretary of the Interior for management by the Bureau of Indian Affairs. The land will remain closed to surface entry and mining to protect an area having cultural, historical, religious, geological, and archeological significance to the Navajo Nation and the Pueblo of Zuni.

EFFECTIVE DATE: June 20, 2000.

FOR FURTHER INFORMATION CONTACT: Debby Lucero, BLM Albuquerque Field Office, 435 Montano Road NE, Albuquerque, New Mexico 87107, 505-761-8787.

By virtue of the authority vested in the Secretary of the Interior by Section 204 of the Federal Land Policy and Management Act of 1976, 43 U.S.C. 1714 (1994), it is ordered as follows:

1. The Executive Orders dated February 18, 1870 and March 26, 1881, which withdrew public land and reserved the land for use by the Department of the Army, are hereby modified to establish a 20-year term and to transfer jurisdiction to the Secretary of the Interior and reserve the land for use and administration by the Bureau of Indian Affairs. The land is described as follows:

New Mexico Principle Meridian

T. 13 N., R. 16 W.,

Sec. 6, lot 6.

T. 13 N., R. 17 W.,

Sec. 1, lots 1 to 4, inclusive;

Sec. 2, lots 1 to 4, inclusive;

Sec. 3, lots 9 to 11, inclusive.

T. 14 N., R. 16 W.,

Sec. 19, lots 1 to 4, inclusive;

Sec. 30, lots 1 to 4, inclusive;

Sec. 31, lots 1 to 4, inclusive.

T. 14 N., R. 17 W.,

Secs. 24, 25, and 26;

Sec. 27, lots 5 to 8, inclusive, and E½;

Sec. 34, lots 5 to 10, inclusive, NE¼, and N½SE¼;

Sec. 35, lots 1 to 4, inclusive, N½, and N½S½;

Sec. 36, lots 1 to 4, inclusive, N½, and N½S½.

The area described contains approximately 4,526 acres in McKinley County.

2. The land described in paragraph 1 continues to be withdrawn from settlement, sale, location, or entry under the general land laws, including the United States mining laws (30 U.S.C. Ch.2 (1994)), but not from leasing under the mineral leasing laws, to protect an area having cultural, historical, religious, geological and archeological significance to the Navajo Nation and the Pueblo of Zuni. The withdrawn land is to be managed by the Bureau of Indian Affairs for these values, as well as, other compatible uses. This withdrawal will expire 20 years from the effective date of this order unless, as a result of a review conducted before the expiration date pursuant to Section 204(f) of the Federal Land Policy and Management Act of 1976, 43 U.S.C. 1714(f) (1994), the Secretary determines that the withdrawal shall be extended.

3. The land and resources shall be managed by the Bureau of Indian Affairs, its successors or assignees, in accordance with the Memorandum of Agreement between the Ballistic Missile Defense Organization and the Department of the Interior. The Memorandum of Agreement shall be incorporated into any future land transfers for the life of the Memorandum of Agreement. The Memorandum of Agreement may be reviewed and amended by the agencies as necessary.

4. The Army and its officers, agents, employees, contractors, and subcontractors will have the right of access, upon reasonable notice, to enter the land described in this order for the purposes of activities related to the Fort Wingate Depot Activity Installation Restoration Program and other environmentally related compliance programs and to construct, operate, maintain or undertake response and remedial actions to implement this program.

5. The Army represents that, to the best of its knowledge, no unexploded ordnance are currently present on the land described in this order. Due to the former use of the land as an active military installation, there is a possibility that unexploded ordnance may exist on the land. Upon due notice, the Army agrees to remove any such remaining unexploded ordnance discovered on the land, as required under applicable law and regulations, as expeditiously as is reasonable and practicable, subject to the availability of funds.

Dated: June 7, 2000.
Sylvia V. Baca,
Assistant Secretary of the Interior.

[FR Doc. 00-15492 Filed 6-19-00; 8:45 am]

BILLING CODE 4310-02-P